ELECTION ASSISTANCE COMMISSION

Sunshine Act Notice

AGENCY: United States Election Assistance Commission.

ACTION: Notice of public meeting.

Date & Time: Wednesday, April 16, 2008, 1-5 p.m. (CDT).

Place: Millennium Hotel Minneapolis, Horizons, 14th Floor, 1313 Nicollet Mall, Minneapolis, Minnesota 55403-2697, (612) 332-6000.

Agenda: The Commission will receive presentations on Successful Ballot Design. The presentations will focus on the following: The Ballot Design Process from Start to Finish; Ballot Design Accessibility, and Usability; and Successful Designs for Optical-scan Ballots, Direct Recording Device Ballots and Paper Ballots. The Commission will receive a status report on a first-time voter study. The Commission will consider and vote on the following items: consideration and vote on a voter information Web sites study; consideration and vote on policy proposal regarding the allowable uses of HAVA funds; consideration and vote on whether to modify Advisory Opinion 07-003-A regarding Maintenance of Effort (MOE) funding, Pursuant to HAVA Section 254 (a) (7). The Commission will consider other administrative matters.

This meeting will be open to the public.

Person to Contact for Information: Bryan Whitener, Telephone: (202) 566-3100.

Thomas R. Wilkey,
Executive Director, U.S. Election Assistance Commission.

[FR Doc. E8-7932 Filed 4-14-08; 8:45 am]

BILLING CODE 6820-KF-M